DEPARTMENT OF TRANSPORTATION

Federal Aviation Administration

[Summary Notice No. SAB 2020-01]

Petition for Exemption; Summary of Petition Received; Airbus Helicopters S.A.S.

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before September 14, 2020.

ADDRESSES: Send comments identified by docket number FAA-2020-0326 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: David Hatfield, Safety Management Section, AIR-682, Rotorcraft Standards Branch, Policy and Innovation Division, Aircraft Certification Service, Federal Aviation Administration, 10101 Hillwood Parkway, 5N-131, Fort Worth, TX 76117; telephone (817)222-5116, email david.hatfield@faa.gov.

This notice is published pursuant to 14 CFR 11.85.

Issued in Fort Worth, TX, on August 19, 2020.
Jorge Castillo,
Manager, Rotorcraft Standards Branch, Policy and Innovation Division, Aircraft Certification Service.

Petition for Exemption

Docket No.: FAA-2020-0326.

Petitioner: Airbus Helicopters S.A.S.

Section(s) of 14 CFR Affected: § 29.735(c)(2).

Description of Relief Sought: To allow the first three H160 helicopters, scheduled for delivery to the U.S., to be held on a 5 degree slope on dry, smooth pavement instead of a 10 degree slope required by regulation. This relief is temporary while a fully compliant brake system is currently under development for certification and will be retro fitted to these helicopters no later than June 30, 2023.

[FR Doc. 2020-18617 Filed 8-24-20; 8:45 am]

BILLING CODE 4910-13-P